DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pilot Test of the Elwha River Dam Removal and Floodplain Restoration Ecosystem Service Valuation Project Survey.

OMB Control Number: None.

Form Number(s): NA.

Type of Request: Regular submission (request for a new information collection).

Number of Respondents: 1,300.

Average Hours per Response: 30 minutes.

Burden Hours: 650.

Needs and Uses: National Ocean Services' Office of Response and Restoration, Assessment and Restoration Division and the National Marine Fisheries Services' Office of Habitat Conservation are requesting approval for a new information collection to conduct a pilot study to test the Elwha River Dam Removal and Floodplain Restoration Ecosystem Service Valuation Survey it has developed.

The removal of two hydroelectric dams on the Elwha River is one of the largest dam-removal projects in U.S. history. This project, along with restoration actions planned for the floodplain and drained reservoir basins, will have numerous impacts to people of the surrounding region. Impacted groups include recreators who engage in river activities such as fishing and rafting, reservoir users, and members of Native American tribes for whom the river has cultural, environmental, and economic significance. The dam removal and restoration actions could also have value to people throughout the Pacific Northwest, regardless of whether they visit the Elwha River or Olympic Peninsula. Such nonuse value may be significant because the dam removal and habitat restoration will restore the river to more natural conditions and will restore populations of salmon and other fish species as well as forests and wildlife. This project will also address an important gap in research on indirect and nonuse values provided by habitat restoration.

A study of the value of ecological restoration is of particular interest in this location because significant baseline ecological data are available to allow a comparison of ecological values with some of the more obvious use losses associated with the reservoir. The ability to link results of the study to precise measures of ecosystem changes will be useful in applying the study to future restoration sites, enabling NOAA to evaluate a broader range of ecosystem services provided by future restoration actions.

NOAA has developed a nonmarket valuation survey to administer to people living in Washington and Oregon. This survey has been tested with small focus groups and one-on-one interviews to ensure the survey questions and choice scenarios presented are accurate, easily understood, and the least burdensome. The next step in the survey development process is to administer a draft survey instrument to test several, complex methodological approaches for presenting information to respondents. In particular, NOAA plans to test variations of the choice table.

Affected Public: Individuals or households.

Frequency: One time.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: January 23, 2013.
Glenna Mickelson,
Management Analyst, Office of the Chief Information Officer.

[FR Doc. 2013-01741 Filed 1-28-13; 8:45 am]

BILLING CODE 3510-JE-P